NATIONAL TRANSPORTAITON SAFETY BOARD

Sunshine Act Meeting

TIME AND PLACE: 9:30 a.m., Tuesday, May 15, 2001.

PLACES: NTSB Conference Center, 429 L'Enfant Plaza SW., Washington, DC 20594.

STATUS: The one item is Open to the Public.

MATTER TO BE CONSIDERED: 5299G Most wanted Safety Recommendations Program—2001 Update.

News Media Contact: Telephone: (202) 314-6100

Individuals requesting specific accommodation should contact Ms. Carolyn Dargan at (202) 314-6305 by Friday, May 11, 2001.

FOR MORE INFORMATION CONTACT: Vicky D'Onofrio, (202) 314-6065.

Dated: May 4, 2001.
Vicky D'Onofrio,
Federal Register Liaison Officer.

[FR Doc. 01-11751 Filed 5-7-01; 11:03 am]

BILLING CODE 7533-01-M